DEPARTMENT OF TRANSPORTATION

Federal Motor Carrier Safety Administration

[Docket No. FMCSA-2010-0385]

Qualification of Drivers; Exemption Applications; Vision

AGENCY: Federal Motor Carrier Safety Administration (FMCSA), DOT.

ACTION: Notice of applications for exemptions; request for comments.

SUMMARY: FMCSA announces receipt of applications from 24 individuals for exemption from the vision requirement in the Federal Motor Carrier Safety Regulations. If granted, the exemptions would enable these individuals to qualify as drivers of commercial motor vehicles (CMVs) in interstate commerce without meeting the Federal vision standard.

DATES: Comments must be received on or before January 13, 2011.

ADDRESSES: You may submit comments bearing the Federal Docket Management System (FDMS) Docket No. FMCSA-2010-0385 using any of the following methods:

• Federal eRulemaking Portal: Go to http://www.regulations.gov. Follow the

on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 24 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Gary S. Alvarez

Mr. Alvarez, age 46, has had blunt contusion to his right eye with vision loss from optic atropy since 1985. The visual acuity in his right eye is no light perception and in his left eye, 20/20. Following an examination in 2010, his optometrist noted, “It is my continued opinion that Mr. Alvarez has sufficient vision to perform the driving tasks required for commercial driving.” Mr. Alvarez reported that he has driven straight trucks for 3½ years, accumulating 175,000 miles and tractor-trailer combinations for 5 years, accumulating 500,000 miles. He holds a Class A Commercial Driver's License (CDL) from Massachusetts. His driving record for the last 3 years shows no crashes and no convictions for moving violations in a CMV.

Wayne D. Bost

Mr. Bost, 75, has had macular degeneration in his left eye since childhood. The visual acuity in his right eye is 20/20 and in his left eye, 20/70. Following an examination in 2010, his ophthalmologist noted, “I certify that in my medical opinion he has sufficient vision to perform the driving tasks required to operate a commercial vehicle.” Mr. Bost reported that he has driven buses for 13 years, accumulating 357,500 miles. He holds a Class B CDL from Maryland. His driving record for the last 3 years shows no crashes and no convictions for moving violations in a CMV.

James M. Brasher

Mr. Brasher, 58, has had prosthetic left eye due to an accident that happened 30 years ago. The corrected visual acuity in his right eye is 20/20 and in his left eye, no light perception. Following an examination in 2010, his optometrist noted, “In my opinion Mr. Brasher has sufficient vision to operate a commercial vehicle.” Mr. Brasher reported that he has driven straight trucks for 37 years, accumulating 1.8 million miles. He holds a Class A CDL from Alabama. His driving record for the last 3 years shows one crash, for which he was not cited and no convictions for moving violations in a CMV.

Marcus L. Conner

Mr. Conner, 52, has had amblyopia in his right eye since childhood. The best corrected visual acuity in his right eye is 20/200 and in his left eye, 20/20. Following an examination in 2010, his ophthalmologist noted, “This in no way in my medical opinion this limits his ability to operate safely a commercial vehicle.” Mr. Conner reported that he has driven straight trucks for 12 years, accumulating 115,200 miles and tractor-trailer combinations for 1.8 years, accumulating 80,546 miles. He holds a Class A CDL from Texas. His driving record for the last 3 years shows no crashes and no convictions for moving violations in a CMV.

Joseph L. Dahlman

Mr. Dahlman, 29, has had refractive amblyopia in his left eye since childhood. The best corrected visual acuity in his right eye is 20/20 and in his left eye, 20/100. Following an examination in 2010, his optometrist noted, “I am confident in certifying Joseph as having the vision skills necessary to have the ability to perform the driving tasks required to operate a commercial motor vehicle.” Mr. Dahlman reported that he has driven straight trucks for 10½ years, accumulating 420,000 miles. He holds an operator's license from Washington. His driving record for the last 3 years shows no crashes and no convictions for moving violations in a CMV.

Brett K. Hasty

Mr. Hasty, 28, has had amblyopia in his right eye since childhood. The best corrected visual acuity in his right eye is 20/200 and in his left eye, 20/15. Following an examination in 2010, his ophthalmologist noted, “My medical opinion is that Mr. Hasty has sufficient vision to perform the driving tasks required to operate a commercial vehicle.” Mr. Hasty reported that he has driven straight trucks for 5¾ years, accumulating 8,625 miles. He holds a Class C operator's license from Georgia. His driving record for the last 3 years shows no crashes and no convictions for moving violations in a CMV.

Frederick A. Irby

Mr. Irby, 61, has had a displaced pupil in his right eye since childhood. The best corrected visual acuity in his right eye is light perception only and in his left eye, 20/20. Following an examination in 2010, his optometrist noted, “I feel Mr. Irby has sufficient vision to drive a commercial vehicle as in the past 30 years.” Mr. Irby reported that he has driven straight trucks for 40 years, accumulating 192,000 miles and tractor-trailer combinations for 37 years, accumulating 414,400 miles. He holds a Class A CDL from Illinois. His driving record for the last 3 years shows no crashes and no convictions for moving violations in a CMV.

Matthew B. Lairamore

Mr. Lairamore, 29, has a retinal detachment in his right eye due to a traumatic injury sustained as a child. The best corrected visual acuity in his right eye is no light perception and in his left eye, 20/20. Following an examination in 2010, his ophthalmologist noted, “He has chronic, permanent vision loss in the right eye; however, he has adequate vision in the left eye, both central and peripheral to perform all needed tasks for operating a commercial vehicle.” Mr. Lairamore reported that he has driven straight trucks for 9 years, accumulating 90,000 miles and tractor-trailer combinations for 9 years, accumulating 18,000 miles. He holds a Class D operator's license from Oklahoma. His driving record for the last 3 years shows no crashes and no convictions for moving violations in a CMV.

Garry D. Layton

Mr. Layton, 50, has had strabismic amblyopia in his left eye since birth. The corrected visual acuity in his right eye is 20/20 and in his left eye, 20/100. Following an examination in 2010, his optometrist noted, “I certify that Garry Layton, in my medical opinion, has more than sufficient vision to perform the driving tasks required to operate a commercial vehicle.” Mr. Layton reported that he has driven tractor-trailer combinations for 4 years, accumulating 260,000 miles. He holds a Class A CDL from Texas. His driving record for the last 3 years shows no crashes and no convictions for moving violations in a CMV.

Boynton L. Manuel

Mr. Manuel, 67, has had a retinal detachment in his left eye due to an accident in 1985. The best corrected visual acuity in his right eye is 20/20 and in his left eye, hand motion only. Following an examination in 2010, his optometrist noted, “In my medical opinion Mr. Manuel has sufficient vision for driving a commercial vehicle.” Mr. Manuel reported that he has driven straight trucks for 50 years, accumulating 910,000 miles. He holds a Class D operator's license from South Carolina. His driving record for the last 3 years shows no crashes and no convictions for moving violations in a CMV.

Anthony W. Miller

Mr. Miller, 37, has had a misshapened pupil and a retinal detachment in his left eye since birth. The best corrected visual acuity in his right eye is 20/15 and in his left eye, 20/200. Following an examination in 2010, his optometrist noted, “In my medical opinion, Anthony possesses adequate corrected vision to safely perform his commercial driving.” Mr. Miller reported that he has driven straight trucks for 12 years, accumulating 624,000 miles. He holds a Class A CDL from Ohio. His driving record for the last 3 years shows no crashes and no convictions for moving violations in a CMV.

Wesley G. Moore

Mr. Moore, 62, has had aphakia in his left eye since childhood due to trauma. The visual acuity in his right eye is 20/20 and in his left eye, light perception only. Following an examination in 2010, his optometrist noted, “In my medical opinion, he has sufficient vision to perform the driving tasks required to operate a commercial vehicle.” Mr. Moore reported that he has driven straight trucks for 5 years, accumulating 100,000 miles and tractor-trailer combinations for 32 years, accumulating 3.2 million miles. He holds a Class A CDL from Arkansas. His driving record for the last 3 years shows no crashes and one conviction for a moving violation in a CMV. He exceeded the speed limit by 10 mph.

Rocky Moorhead

Mr. Moorhead, 52, has had complete loss of vision in his right eye since childhood due to trauma. The best corrected visual acuity in his right eye is no light perception and in his left eye, 20/20. Following an examination in 2010, his optometrist noted, “In my medical opinion, Rocky has sufficient vision in his left eye to operate a commercial vehicle.” Mr. Moorhead reported that he has driven straight trucks for 25 years, accumulating 875,000 miles. He holds a Class A CDL from New Mexico. His driving record for the last 3 years shows no crashes and no convictions for moving violations in a CMV.

Gary J. Peterson

Mr. Peterson, 62, has had a prosthetic right eye since 1982. The best corrected visual acuity in his left eye is 20/20. Following an examination in 2010, his optometrist noted, “In my opinion Mr. Peterson has sufficient vision to perform the driving tasks required to operate a commercial vehicle as he has been doing with one eye since 1982.” Mr. Peterson reported that he has driven straight trucks for 45 years, accumulating 1.8 million miles and tractor-trailer combinations for 45 years, accumulating 1.8 million miles. He holds a Class A CDL from Illinois. His driving record for the last 3 years shows no crashes and no convictions for moving violations in a CMV.

Bernard J. Phillips

Mr. Phillips, 67, has had longstanding corneal scar in his left eye due to an injury 45 years ago. The corrected visual acuity in his right eye is 20/20 and in his left eye, 20/80. Following an examination in 2010, his optometrist noted, “In my opinion he has sufficient central and peripheral vision to continue to safely perform the tasks needed to operate a commercial vehicle.” Mr. Phillips reported that he has driven tractor-trailer combinations for 43 years, accumulating 5.3 million miles. He holds a Class A CDL from Washington. His driving record for the last 3 years shows no crashes and one conviction for a moving violation in a CMV. He exceeded the speed limit by 14 mph.

Michael J. Roberts

Mr. Roberts, 32, has had amblyopia in his right eye since birth. The visual acuity in his right eye is 20/200 and in his left eye, 20/20. Following an examination in 2010, his optometrist noted, “Based upon my examination and his visual result tests, in my opinion, Mike has sufficient vision to perform driving tasks required to operate a commercial vehicle.” Mr. Roberts reported that he has driven straight trucks for 15 years, accumulating 750,000 miles and tractor-trailer combinations for 6 years, accumulating 270,000 miles. He holds a Class A CDL from Montana. His driving record for the last 3 years shows no crashes and no convictions for moving violations in a CMV.

Alvaro F. Rodriguez

Mr. Rodriguez, 48, has had complete loss of vision in his left eye since childhood. The visual acuity in his right eye is 20/25 and in his left eye, light perception only. Following an examination in 2010, his ophthalmologist noted, “In my medical opinion, he has sufficient vision to perform driving tasks required to operate a commercial vehicle.” Mr. Rodriquez reported that he has driven straight trucks for 9 years, accumulating 540,000 miles and tractor-trailer combinations for 9 months, accumulating 120,000 miles. He holds a Class A CDL from Texas. His driving record for the last 3 years shows no crashes and no convictions for moving violations in a CMV.

Bobby W. Sawyers

Mr. Sawyers, 55, has had amblyopia in his left eye since childhood. The visual acuity in his right eye is 20/20 and in his left eye, 20/200. Following an examination in 2010, his optometrist noted, “It is my medical opinion that he has sufficient vision to operate a commercial vehicle.” Mr. Sawyers reported that he has driven straight trucks for 10 years, accumulating 560,000 miles. He holds a Class A CDL from Pennsylvania. His driving record for the last 3 years shows no crashes and no convictions for moving violations in a CMV.

Lynn R. Schraeder

Mr. Schraeder, 42, has had a prosthetic left eye since birth. The visual acuity in his right eye is 20/20. Following an examination in 2010, his optometrist noted, “Patient has sufficient vision to perform driving tasks of commercial vehicle.” Mr. Schraeder reported that he has driven tractor-trailer combinations for 26 years, accumulating 936,000 miles. He holds a Class A CDL from Iowa. His driving record for the last 3 years shows no crashes and no convictions for moving violations in a CMV.

John R. Shaver

Mr. Shaver, 57, has had traumatic neuropathy in his left eye since childhood due to an injury. The best corrected visual acuity in his right eye is 20/20 and in his left eye, 20/5/200. Following an examination in 2010, his ophthalmologist noted, “Mr. Shaver has sufficient vision to perform driving tasks that is required to operate a commercial vehicle.” Mr. Shaver reported that he has driven straight trucks for 41 years, accumulating 2.3 million miles. He holds a Class M operator's license from Virginia. His driving record for the last 3 years shows no crashes and no convictions for moving violations in a CMV.

Myron A. Smith

Mr. Smith, 57, has had complete loss of vision in his left eye due to a traumatic injury sustained as a child. The best corrected visual acuity in his right eye is 20/20 and in his left eye, no light perception. Following an examination in 2010, his optometrist noted, “In my opinion, the patient's right eye is healthy, stable, and has adequate vision acuity and peripheral vision to operate a commercial vehicle.” Mr. Smith reported that he has driven straight trucks for 40 years, accumulating 160,000 miles and tractor-trailer combinations for 2 years, accumulating 10,000 miles. He holds a Class D operator's license from Minnesota. His driving record for the last 3 years shows no crashes and no convictions for moving violations in a CMV.

Ricky L. Watts

Mr. Watts, 49, has had macular scarring in his left eye since 2002. The best corrected visual acuity in his right eye is 20/20 and in his left eye, 20/400. Following an examination in 2010, his optometrist noted, “He meets the requirements of the State of Florida to be able to drive safely, and I see no reason for him to have any visual hindrance to interstate commercial driving.” Mr. Watts reported that he has driven tractor-trailer combinations for 24 years, accumulating 1.8 million miles. He holds a Class A CDL from Florida. His driving record for the last 3 years shows one crash, for which he was cited, and one conviction for a moving violation in a CMV; careless driving.

Cameron R. Whitford

Mr. Whitford, 50, has had a prosthetic right eye since childhood. The best corrected visual acuity in his right eye is 20/20. Following an examination in 2010, his optometrist noted, “Cameron Whitford in my opinion has sufficient vision to perform the driving tasks required to operate a commercial vehicle.” Mr. Whitford reported that he has driven straight trucks for 6 years, accumulating 240,000 miles. He holds a Class B CDL from New York. His driving record for the last 3 years shows one crash, for which he was not cited, and no convictions for moving violations in a CMV.

Olen L. Williams, Jr.

Mr. Williams, 59, has had ischemic optic neuropathy in his left eye since 2003. The best corrected visual acuity in his right eye is 20/25 and in his left eye, count-finger vision. Following an examination in 2010, his optometrist noted, “In my opinion Mr. Williams has sufficient vision to operate any commercial motor vehicle safely and efficiently.” Mr. Williams reported that he has driven tractor-trailer combinations for 34 years, accumulating 5.1 million miles. He holds a Class A CDL from Tennessee. His driving record for the last 3 years shows no crashes and one conviction for a moving violation. He exceeded the speed limit by 10 mph.

Request for Comments

In accordance with 49 U.S.C. 31136(e) and 31315, FMCSA requests public comment from all interested persons on the exemption petitions described in this notice. The Agency will consider all comments received before the close of business January 13, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: December 6, 2010.
Larry W. Minor,
Associate Administrator, Office of Policy.

[FR Doc. 2010-31263 Filed 12-13-10; 8:45 am]

BILLING CODE 4910-EX-P